DEPARTMENT OF ENERGY

Federal Energy Regulatory Commission

Combined Notice of Filings #1

Take notice that the Commission received the following electric corporate filings:

Docket Numbers: EC18-78-000.

Applicants: Florida Power & Light Company.

Description: Response to June 5, 2018 Deficiency Letter of Florida Power & Light Company.

Filed Date: 7/5/18.

Accession Number: 20180705-5111.

Comments Due: 5 p.m. ET 7/26/18.

Docket Numbers: EC18-120-000.

Applicants: National Grid USA.

Description: Application for Authorization Under Section 203 of the Federal Power Act of National Grid USA.

Filed Date: 7/6/18.

Accession Number: 20180706-5008.

Comments Due: 5 p.m. ET 7/27/18.

Take notice that the Commission received the following electric rate filings:

Docket Numbers: ER15-958-006.

Applicants: Transource Kansas, LLC.

Description: Compliance filing: Transource Kansas Compliance Filing—Compliance Filing Re Docket Nos EL18-13 to be effective 6/1/2018.

Filed Date: 7/5/18.

Accession Number: 20180705-5110.

Comments Due: 5 p.m. ET 7/26/18.

Docket Numbers: ER18-1519-001.

Applicants: Duke Energy Progress, LLC, Duke Energy Florida, LLC, Duke Energy Carolinas, LLC.

Description: Compliance filing: Correction to Order 842 (Primary Frequency Response) Filing to be effective 5/15/2018.

Filed Date: 7/6/18.

Accession Number: 20180706-5062.

Comments Due: 5 p.m. ET 7/27/18.

Docket Numbers: ER18-1905-001.

Applicants: PJM Interconnection, L.L.C.

Description: Tariff Amendment: Errata to Tariff Revisions re: GDECs Standard Format Clean-Ups to be effective 9/17/2010.

Filed Date: 7/6/18.

Accession Number: 20180706-5097.

Comments Due: 5 p.m. ET 7/27/18.

Docket Numbers: ER18-1967-000.

Applicants: NRG Wholesale Generation LP.

Description: Tariff Cancellation: Notice of Cancellation to be effective 12/31/9998.

Filed Date: 7/5/18.

Accession Number: 20180705-5085.

Comments Due: 5 p.m. ET 7/26/18.

Docket Numbers: ER18-1968-000.

Applicants: PJM Interconnection, L.L.C.

Description: § 205(d) Rate Filing: Revisions to the OATT and OA RE: Long-Term FTR Auctions to be effective 8/31/2018.

Filed Date: 7/5/18.

Accession Number: 20180705-5086.

Comments Due: 5 p.m. ET 7/26/18.

Docket Numbers: ER18-1969-000.

Applicants: Southwest Power Pool, Inc.

Description: § 205(d) Rate Filing: 3388R1 East River Electric/Otter Tail Power/MISO Int Agr to be effective 12/31/9998.

Filed Date: 7/6/18.

Accession Number: 20180706-5006.

Comments Due: 5 p.m. ET 7/27/18.

Docket Numbers: ER18-1970-000.

Applicants: Midcontinent Independent System Operator, Inc., Otter Tail Power Company.

Description: § 205(d) Rate Filing: 2018-07-06_SA 3080 OTP-East River 1st Revised T-T (Blair) to be effective 12/31/9998.

Filed Date: 7/6/18.

Accession Number: 20180706-5024.

Comments Due: 5 p.m. ET 7/27/18.

Docket Numbers: ER18-1971-000.

Applicants: Duke Energy Progress, LLC.

Description: Tariff Cancellation: DEP-Elizabethtown LGIA (SA-204) Cancellation Filing to be effective 9/5/2018.

Filed Date: 7/6/18.

Accession Number: 20180706-5031.

Comments Due: 5 p.m. ET 7/27/18.

Docket Numbers: ER18-1972-000.

Applicants: PJM Interconnection, L.L.C., PJM Settlement, Inc.

Description: Joint Request for Waiver of PJM Interconnection, L.L.C., et al.

Filed Date: 7/6/18.

Accession Number: 20180706-5057.

Comments Due: 5 p.m. ET 7/27/18.

Docket Numbers: ER18-1973-000.

Applicants: Southwestern Public Service Company.

Description: § 205(d) Rate Filing: TCEC Transaction Agreement Amendment 0.2.0 Filing to be effective 9/3/2018.

Filed Date: 7/6/18.

Accession Number: 20180706-5060.

Comments Due: 5 p.m. ET 7/27/18.

Docket Numbers: ER18-1974-000.

Applicants: Otter Tail Power Company.

Description: § 205(d) Rate Filing: Filing of Letter Agreement Between OTP and WAPA re: F.L. Blair Substation to be effective 9/4/2018.

Filed Date: 7/6/18.

Accession Number: 20180706-5085.

Comments Due: 5 p.m. ET 7/27/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 6, 2018.
Nathaniel J. Davis, Sr.,
Deputy Secretary.

[FR Doc. 2018-14976 Filed 7-12-18; 8:45 am]

BILLING CODE 6717-01-P